DEPARTMENT OF EDUCATION

[CFDA No. 84.938H]

Notice Announcing Availability of Funds and Application Deadline for Hurricane Education Recovery Awards Under Title II of the Emergency Supplemental Appropriations Act for Defense, the Global War on Terror and Hurricane Recovery, 2006 (Pub. L. 109-234)

AGENCY: Office of Postsecondary Education, Department of Education.

SUMMARY: Under the Emergency Supplemental Appropriations Act for Defense, the Global War on Terror and Hurricane Recovery, 2006 we will award funds to institutions of higher education, as defined in section 102 of the Higher Education Act of 1965, as amended (HEA), that are located in an area in which a major disaster was declared in accordance with section 401 of the Robert T. Stafford Disaster Relief and Emergency Assistance Act related to hurricanes in the Gulf of Mexico in calendar year 2005, and that were forced to close, relocate, or significantly curtail their activities as a result of damage directly caused by the hurricanes. These Hurricane Education Recovery Awards can be used only to defray expenses, including expenses that would have been covered by revenue lost as a direct result of a hurricane, expenses already incurred, and construction expenses directly related to damage resulting from the hurricanes.

Pre-Application Deadline: September 1, 2006.

Application Deadline: September 19, 2006.

SUPPLEMENTARY INFORMATION: The Emergency Supplemental Appropriations Act for Defense, the Global War on Terror and Hurricane Recovery, 2006 (Pub. L. 109-234) provided $50 million for Hurricane Education Recovery Awards to assist institutions of higher education, as defined in section 102 of the HEA that are located in an area in which a major disaster was declared in accordance with section 401 of the Robert T. Stafford Disaster Relief and Emergency Assistance Act related to hurricanes in the Gulf of Mexico in calendar year 2005, and that were forced to close, relocate, or significantly curtail their activities as a result of damage directly caused by the hurricanes. This area includes the States of Louisiana and Mississippi and certain counties in the States of Alabama, Florida, and Texas. A list of these counties is available at: http://www.fema.gov/hazard/hurricane/hu_recovery.shtm. These awards can only be used to defray expenses incurred by these institutions, including, but not limited to, expenses that would have been covered by revenue lost as a direct result of a hurricane, reimbursement for expenses already incurred, and construction expenses, directly related to damage resulting from the hurricanes.

The Emergency Supplemental Appropriations Act for Defense, the Global War on Terror and Hurricane Recovery, 2006 authorizes the Department to make these funds available based on criteria established by the Secretary. The Secretary establishes and will consider the following criteria in allocating these funds: expenses that would have been covered by revenues lost by the institution as a direct result of the hurricanes; expenses incurred by the institution in remedying the effects of the hurricanes; the costs of construction associated with physical damage caused by the hurricanes; any amount of any insurance settlement or other reimbursement received including from a Federal or other relief agency; and the number of Pell Grant recipients enrolled at the institution at any time during the 2005-06 award year. Institutions must include information responsive to each of these criteria in their applications.

Available Funds for Hurricane Education Recovery Awards: $50,000,000.

Period of Fund Availability: Institutions receiving Hurricane Education Recovery Awards must obligate the funds received by September 30, 2008. Funds being used for construction must be expended by September 30, 2010.

Waiver of Proposed Rulemaking: Under the Administrative Procedure Act (APA) (5 U.S.C. 553), and section 437 of the General Education Provisions Act (20 U.S.C. 1232), the Department generally offers interested parties the opportunity to comment on proposed program requirements. However, the Emergency Supplemental Appropriations Act for Defense, the Global War on Terror and Hurricane Recovery, 2006 (Pub. L. 109-234) specifically exempts criteria established by the Secretary for the award of funds under this program from the rulemaking requirements of the APA and GEPA.

Pre-Application Requirements: Institutions intending to submit an application for a Hurricane Education Recovery Award must first complete and submit a pre-application data information form from which institutional allotments will be calculated. Data forms and instructions can be downloaded from http://www.ed.gov/OPE (click on the Hurricane Education Recovery Awards link). Complete the form and fax it to David Johnson, Program Officer, Office of Postsecondary Education, at 202-502-7877 by the date established under Pre-Application Deadline. Within one week of the Pre-Application Deadline, the Department will calculate the applicant institution's allotment and e-mail the amount back to the contact person identified on the form. Institutions will then have until September 12, 2006 to submit their application and budget through the e-Application system.

Electronic Submission of Applications: Applications for Hurricane Education Recovery Awards—CFDA Number 84.938H must be submitted electronically using e-Application available through the Department's e-Grants system, accessible through the e-Grants portal page at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application title page (ED 424), Budget Information (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the application Title Page (Form No. ED 424) to the Application Control Center after following these steps:

(1) Print the application Program Title Page (ED 424) from e-Application.

(2) The applicant's Authorizing Representative must sign this form (ED 424).

(3) Place the PR/Award number in the upper right hand corner (Item 1) of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day to enable you to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see section VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: David Johnson, Hurricane Education Recovery Awards, U.S. Department of Education, 1990 K Street, NW., Room 6155, Washington, DC 20006-8544. FAX: (202) 502-7877.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.938H), 400 Maryland Avenue, SW., Washington, DC 20202-4260. or

By mail through a commercial carrier: U.S. Department of Education, Application Control Center—Stop 4260, Attention: (CFDA Number 84.938H), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.938H), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—on the Hurricane Education Recovery Awards Title Page the CFDA number and suffix letter (84.938H of the competition under which you are submitting your application.

(2) The Application Control Center will mail a grant application receipt acknowledgment to you. If you do not receive the grant application receipt acknowledgment within 15 business days from the application deadline date, you should call the U.S. Department of Education Application Control Center at (202) 245-6288.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: Division B, Title IV of Pub. L. 109-148; Title II of Pub. L. 109-234.

Dated: August 15, 2006.
James F. Manning,
Acting Assistant Secretary for Postsecondary Education.

[FR Doc. E6-13641 Filed 8-17-06; 8:45 am]

BILLING CODE 4000-01-P